DEPARTMENT OF HEALTH AND HUMAN SERVICES

Centers for Disease Control and Prevention

Interagency Task Force on Antimicrobial Resistance (ITFAR) Public Meeting

AGENCY: Centers for Disease Control and Prevention (CDC), Department of Health and Human Services (HHS).

ACTION: Notice of public meeting.

SUMMARY: The Centers for Disease Control and Prevention (CDC), Food and Drug Administration (FDA), and National Institutes of Health (NIH), all located within the Department of Health and Human Services, in collaboration with partner agencies, announce a public meeting concerning antimicrobial resistance. CDC, FDA, and NIH serve as Co-Chairs to the Interagency Task Force on Antimicrobial Resistance (ITFAR). The purpose of the meeting is to communicate the strategic direction of ITFAR in the fight against antimicrobial resistance, centering on current work and future direction in this area.

DATES: The public meeting will be held at the Ronald Reagan Building and International Trade Center in Washington, DC, on Thursday, September 4, 2014, from 1:00 p.m. to 5:00 p.m.

Deadline for Registration for all Attendees: All attendees must register by 12:00 p.m. EDT, Monday, August 18, 2014.

Deadline for Requests for Special Accommodation: Special accommodation requests must be submitted to ITFAR@cdc.gov by 12:00 p.m. EDT, Monday, August 18, 2014.

ADDRESSES: The public meeting will be held at the Ronald Reagan Building and International Trade Center, Horizon Ballroom, 1300 Pennsylvania Avenue NW., Washington, DC 20004; Telephone: 202-312-1300.

Participants should be aware that the meeting location is a Federal government building; therefore, Federal security measures are applicable. Please see Building and Security Guidelines for information on security requirements. Additional visitor information is available at http://www.itcdc.com.

FOR FURTHER INFORMATION CONTACT: Stephanie Gumbis, Office of Antimicrobial Resistance, National Center for Emerging and Zoonotic Infectious Diseases, Centers for Disease Control and Prevention, 1600 Clifton Road NE., Mailstop A-28, Atlanta, GA 30329; Telephone 404-639-4000; Email ITFAR@cdc.gov.

SUPPLEMENTARY INFORMATION:

1. Background

The Interagency Task Force on Antimicrobial Resistance (ITFAR) was created in 1999 in recognition of the increasing importance of antimicrobial resistance (AR) as a public health threat. The ITFAR coordinates the activities of federal agencies in addressing antimicrobial resistance and is co-chaired by HHS/CDC, HHS/FDA, and HHS/NIH. Other HHS Task Force members include the Agency for Healthcare Research and Quality (AHRQ), the Centers for Medicare and Medicaid Services (CMS), the Health Resources and Services Administration (HRSA), the HHS Office of the Assistant Secretary for Preparedness and Response (HHS/ASPR) and the HHS Office of the Assistant Secretary of Health (HHS/OASH). Non-HHS Task Force members include the Department of Agriculture (USDA), the Department of Defense (DoD), the Department of Veterans Affairs (VA), and the Environmental Protection Agency (EPA).

In 2001, the ITFAR developed an initial action plan to combat AR. This plan, titled “A Public Health Action Plan to Combat Antimicrobial Resistance,” outlined specific goals, actions, and implementation steps important for addressing the problem of antimicrobial resistance. Action items were organized into focus areas: Surveillance, Prevention and Control, Research, and Product Development. The 2001 Action Plan was revised in 2011 and 2012 to address the evolving threat of antimicrobial resistance. A revised draft of the Action Plan is under development and will be available for public comment later this year.

2. Public Comment and Meeting

The public meeting process provides an opportunity for the public to comment on the activities of the ITFAR to date. The agenda will consist of welcome and introductory comments followed by sessions centering on specific topics in each of the three focus areas of the Action Plan: Surveillance, Prevention and Control of Antimicrobial Resistance; Research; and Regulatory Pathways to Promote Product Development. Each session will include presentations by the ITFAR members on the strategic direction of government agencies for that Focus Area followed by brief presentations from invited partner organizations. The session will end with a moderated question and answer session with the audience. The meeting will then be open for comments from the general public. The agenda is subject to change without notice.

Comments and suggestions from the public on the ITFAR or any of the focus areas of the Action Plan will be reviewed and carefully considered by the ITFAR. The public should be aware that this meeting agenda does not include development of consensus positions, guidelines, interrogatories, or discussions or endorsement of specific commercial products.

3. Registration To Attend or Participate in the Public Meeting

Participants are asked to preregister to ensure sufficient space. Seating capacity is limited to 200 persons. To register, please send an electronic mail message to ITFAR@cdc.gov by 12:00 p.m. EDT, Monday, August 18, 2014. Your email should include your name, and email address. Because of time restrictions, the moderated question and answer session with the audience and the time for comments from the general public will be limited by the time allotted on the agenda. However, additional comments may be submitted in writing following the public meeting; instructions for submission are listed in ADDRESSES.

4. Building and Security Guidelines

The meeting is being held in a Federal government building; therefore, Federal security measures are applicable. In planning your arrival, please take into account the need to clear security. All visitors entering the Ronald Reagan Building must procede as directed through security checkpoints and present government-issued photo identification (e.g., a valid Federal identification badge, state driver's license, state non-driver's license, or passport). All visitors entering the building must pass through a metal detector. All items brought to Ronald Reagan Building may be subject to inspection.

Dated: July 14, 2014.
Ron A. Otten,
Acting Deputy Associate Director for Science, Centers for Disease Control and Prevention.

[FR Doc. 2014-16790 Filed 7-16-14; 8:45 am]

BILLING CODE 4163-18-P